DEPARTMENT OF ENERGY

Federal Energy Regulatory Commission

[Docket No. IC23-9-000]

Commission Information Collection Activity (FERC-600); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on a currently approved information collection, FERC-600 (Rules of Practice and Procedure: Complaint Procedures).

DATES: Comments on the collection of information are due May 22, 2023.

ADDRESSES: You may submit your comments (identified by Docket No. IC23-9-000) on FERC-600 by one of the following methods:

Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, or by telephone at (202) 502-8663.

SUPPLEMENTARY INFORMATION:

Title: FERC-600, Rules of Practice and Procedure: Complaint Procedures.

OMB Control No.: 1902-0180.

Type of Request: Three-year extension without change of the current information collection.

Abstract: In accordance with 18 CFR 385.206, any person may file a complaint seeking Commission action against any other person alleged to be in violation of “any statute, rule, order, or other law administered by the Commission, or for any other alleged wrong over which the Commission may have jurisdiction.” Regulations at 18 CFR part 343 provide for additional procedures and information collection requirements for complaints and other filings that pertain to oil pipelines under the Interstate Commerce Act.

Type of Respondents: Any person that files a complaint for Commission review and resolution.

Estimate of Annual Burden: The Commission estimates the annual public reporting burden ¹ and cost ² for the information collection as shown in the following table:

¹ Burden is defined as the total time, effort, or financial resources expended by persons to generate, maintain, retain, or disclose or provide information to or for a Federal agency. For further explanation of what is included in the information collection burden, refer to 5 CFR 1320.3.

² The Commission staff thinks that the average respondent for this collection is similarly situated to the Commission, in terms of salary plus benefits. Based upon the Commission's 2022 average cost for salary plus benefits, the average hourly cost is $91/hour.

FERC-600—Rules of Practice and Procedure: Complaint Procedures
A. | B. | C. | D. | E. | F.
Number of respondents | Annual number of responses | Total number of responses (Column A × Column B) | Average burden hour and cost per response | Total annual burden hour and cost (Column C × Column D) | Cost per respondent (Column E ÷ Column A)
62 | 1 | 62 | 160 hrs.; $14,560 | 9,920 hrs.; $902,720 | $14,560

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 16, 2023.
Kimberly D. Bose,
Secretary.

[FR Doc. 2023-05887 Filed 3-21-23; 8:45 am]

BILLING CODE 6717-01-P